ENVIRONMENTAL PROTECTION AGENCY

[FRL-8778-4]

Adequacy of Virginia's Municipal Solid Waste Landfill Program

AGENCY: Environmental Protection Agency (EPA).

ACTION: Notice of Determination of Adequacy.

SUMMARY: On March 22, 2004, the U.S. EPA issued final regulations allowing research, development, and demonstration (RD&D) permits to be issued to certain municipal solid waste landfills (MSWLF) by approved states. On September 19, 2008 Virginia submitted an application to U.S. EPA Region 3 seeking approval of its RD&D requirements. Virginia's RD&D requirements allow Virginia to issue research, development and demonstration (RD&D) permits to owners and operators of MSWLF units in accordance with state law. Subject to public review and comment, this notice approves Virginia's RD&D permit requirements.

DATES: This determination of RD&D program adequacy for Virginia will become effective May 18, 2009 unless adverse comments are received on or before May 18, 2009. If adverse comments are received, the U.S. EPA will review those comments and publish another FR document responding to those comments and either affirming or revising the U.S. EPA's initial decision.

ADDRESSES: Written comments should be sent to Mike Giuranna, Land and Chemicals Division, Office of Materials Management (Mail Code 3LC40), U.S. EPA Region 3, 1650 Arch Street, Philadelphia, PA 19103-2029, telephone: (215) 814-3298. Comments may also be submitted electronically to giuranna.mike@epa.gov or by facsimile at (215) 814-3163. You may examine copies of Virginia's application and relevant portions of Virginia's regulations during normal business hours at U.S. EPA Region 3.

FOR FURTHER INFORMATION CONTACT: Mike Giuranna, Land and Chemicals Division, Office of Materials Management (Mail Code 3LC40), U.S. EPA Region 3, 1650 Arch Street, Philadelphia, PA 19103-2029, telephone: (215) 814-3298. e-mail giuranna.mike@epa.gov.

SUPPLEMENTARY INFORMATION:

A. Background

On March 22, 2004, EPA issued a final rule amending the municipal solid waste landfill criteria in 40 CFR part 258 to allow for the issuance of research, development and demonstration (RD&D) permits (69 FR 13242). This rule allows for variances from specified criteria for a limited period of time, to be implemented through state-issued RD&D permits. RD&D permits are available only in states with EPA approved MSWLF permit programs that have been modified to incorporate RD&D permit authority. While states are not required to seek approval for this new provision, those states that are interested in issuing RD&D permits to owners and operators of MSWLFs must seek approval from EPA before issuing such permits. Approval procedures for new provisions of 40 CFR Part 258 are outlined in 40 CFR 239.12.

Virginia's MSWLF permit program was approved by EPA on February 3, 1993 (58 FR 6955), March 31, 1994 (59 FR 15201) and October 7, 2003 (68 FR 57824). On September 19, 2008, Virginia applied for approval of its RD&D permit provisions which are included in the Virginia Administrative Code at 9 VAC 20-80-485D.

B. Decision

After a thorough review, U.S. EPA Region 3 determined that Virginia's RD&D permit provisions at 9 VAC 20-80-485D are adequate to ensure compliance with the Federal criteria promulgated at 40 CFR 258.4.

Authority: This action is issued under the authority of section 2002, 4005 and 4010(c) of the Solid Waste Disposal Act, as amended, 42 U.S.C. 6912, 6945 and 6949a.

Dated: January 28, 2009.
William T. Wisniewski,
Acting Regional Administrator, Region 3.

[FR Doc. E9-5845 Filed 3-17-09; 8:45 am]

BILLING CODE 6560-50-P